DEPARTMENT OF VETERANS AFFAIRS

Privacy Act of 1974; System of Records

AGENCY: Department of Veterans Affairs (VA).

ACTION: Notice of amendment to system of records.

SUMMARY: The Privacy Act of 1974 (5 U.S.C. 552(e) (4)) requires that all agencies publish in the Federal Register a notice of the existence and character of their systems of records. Notice is hereby given that the Department of Veterans Affairs (VA) is amending the system of records currently entitled “Blood Donor File-VA” (04VA113) as set forth in the Federal Register 40 FR 38095. VA is amending the system by revising System name and number and the paragraphs for Categories of Individuals; Categories of Records; Authority for Maintenance; Routine Uses of Records Maintained in the System; and Policies and Practices for Storing, Retrieving, Retaining, and Disposing of Records in the System, including Safeguards and Retention and Disposal. VA is republishing the system notice in its entirety.

DATES: Comments on the amendment of this system of records must be received no later than May 25, 2001. If no public comment is received, the amended system will become effective May 25, 2001.

ADDRESSES: Written comments concerning the proposed new system of records may be submitted to the Office of Regulations Management (02D), Department of Veterans Affairs, 810 Vermont Avenue, NW., Washington, DC 20420. Comments will be available for public inspection at the above address in the Office of Regulations Management, Room 1158, between the hours of 8 a.m. and 4:30 p.m., Monday through Friday (except holidays).

FOR FURTHER INFORMATION CONTACT: Veterans Health Administration (VHA) Privacy Act Officer, Department of Veterans Affairs, 810 Vermont Avenue, NW., Washington, DC 20420, telephone (727) 320-1839.

SUPPLEMENTARY INFORMATION: The name and number of the system is changed from “Blood Donor File-VA” (04VA113) to the “Blood Donor Information-VA” (04VA115). The change in name and number will more accurately reflect the new designation of the Pathology and Laboratory Medicine Services. The change in name gives a clear picture of the types of data contained in the system.

The purpose for the system of records is to maintain vital blood donor information. Information gathered is necessary in order to track the donor from registration to the final disposition of blood and/or blood components produced from the donation. The categories of individuals have been revised to no longer cover individuals who donate blood to Red Cross. The records and information maintained in the system may be used to track the donor medical history, donation interval(s), results of donor testing, and blood and/or blood components produced from the donation. The authority for maintaining the system was updated to reflect current Federal law and regulations. A few routine use disclosures have been amended and one added, as described below:

• Routine Use One has been revised and amended to accurately reflect the current needs of the various medical facilities and practitioners to meet patient care requirements.

• Routine Use Two has been revised and amended to address the needs of all blood donor coordinators to maintain adequate inventories.

• Routine Use Four is being deleted. The routine use disclosure statements will be renumbered.

• Routine Use Seven has been revised and amended by separating it into two routine use disclosures. Routine Uses Six and Seven distinguish the two separate agencies that are authorized use of the system based on the same authority.

• Routine Use Eight has been added to allow the disclosure of relevant information to individuals, organizations, private or public agencies, etc., with whom VA has a contract or agreement to perform such services as VA may deem practicable for the purposes of laws administered by VA, in order for the contractor or subcontractor to perform the services of the contract or agreement. VA occasionally contracts out certain of its functions when this would contribute to effective and efficient operations. VA must be able to give a contractor whatever information is necessary for the contractor to fulfill its duties. In these situations, safeguards are provided in the contract prohibiting the contractor from using or disclosing the information for any purpose other than that described in the contract.

Safeguards were updated to reflect the stricter security policies. The Retention and Disposal section of this system has been amended to comply with current regulatory statutes. The types of information that fall into this category have been identified.

The notice of intent to publish and an advance copy of the system notice have been sent to the appropriate Congressional committees and to the Director of the Office of Management and Budget (OMB) as required by 5 U.S.C. 552a(r) (Privacy Act) and guidelines issued by OMB (61 FR 6428), February 20, 1996.

Approved: April 5, 2001.
Anthony J. Principi,
Secretary of Veterans Affairs.

04VA115

SYSTEM NAME:

Blood Donor Information-VA.

SYSTEM LOCATION:

Blood Donor records are maintained at each of the Department of Veterans Affairs (VA) health care facilities. Addresses are listed in VA Appendix I of the biennial publication of Privacy Act Issuances.

CATEGORIES OF INDIVIDUALS COVERED BY THE SYSTEM:

Individuals who have donated blood to a Veterans Health Administration (VHA) health care facility, blood bank, government or private agencies to be issued for patient care under routine or emergency conditions.

CATEGORIES OF RECORDS IN THE SYSTEM:

Blood donor records contain sufficient information (i.e., donor name, social security number, date of donation, type of donation, type of components produced by the donation, mandated tests results, and disposition of the blood or blood component) to provide a mechanism to track a donated blood product from the time of donor registration through the final disposition of each component prepared from that donation. A record of the individual to whom the blood or blood component was transfused and the medical facility where the product was transfused and/or stored is maintained.

AUTHORITY FOR MAINTENANCE OF THE SYSTEM:

1. Title 38, United States Code, sections 501(a) and 501(b). 2. Title 21, Code of Federal Regulations, parts 200-299 and Parts 600-680. 3. Title 42, Code of Federal Regulations, § 493.1107.

PURPOSE(S):

The information and records are used to track the donor medical history, donation interval(s), results of donor testing, report positive or abnormal test results, and blood and/or blood components produced from the donation.

ROUTINE USES OF RECORDS MAINTAINED IN THE SYSTEM, INCLUDING CATEGORIES OF USERS AND THE PURPOSES OF SUCH USES:

1. Disclosure may be made to answer requests for information from Federal, state, local, and tribal medical facilities regarding the source from which blood was received. Such requests may be initiated by a qualified medical practitioner in the event that a donor's or patient's medical condition warrants it.

2. Disclosure may be made of blood availability, location, quantity on hand, and blood type for use by the area donor collection coordinators to answer and fill requests from health care facilities in need of type-specific blood.

3. In the event that a system of records maintained by this component to carry out its functions indicates a violation or potential violation of law, whether civil, criminal or regulatory in nature, and whether arising by general statute or by regulation, rule or order issued pursuant thereto, the relevant records in the system of records may be referred, as a routine use, to the appropriate agency, whether Federal, state, local, or foreign, charged with the responsibility of investigating or prosecuting such violation or charged with enforcing or implementing the statute, rule, regulation or order issued pursuant thereto.

4. A record from a system of records maintained by this component may be disclosed to a Federal agency, in response to its request, in connection with the hiring or retention of an employee, the issuance of a security clearance, the reporting of an investigation of an employee, the letting of a contract, or the issuance of a license, grant or other benefit by the requesting agency, to the extent that the information is relevant and necessary to the requesting agency's decision on the matter.

5. Disclosure from a system of records maintained by this component may be made to a Congressional office from the record of an individual in response to an inquiry from the Congressional office made at the request of that individual.

6. A record from a system of records maintained by this component may be disclosed as a routine use to the General Services Administration for the purpose of records management inspections conducted under authority of Title 44 United States Code.

7. A record from a system of records maintained by this component may be disclosed as a routine use to the National Archives and Records Administration for the purpose of records management inspections conducted under authority of Title 44 United States Code.

8. Disclosure of relevant information may be made to individuals, organizations, private or public agencies, etc., with whom VA has a contract or agreement to perform such services as VA may deem practicable for the purposes of laws administered by VA, in order for the contractor or subcontractor to perform the services of the contract or agreement.

POLICIES AND PRACTICES FOR STORING, RETRIEVING, ACCESSING, RETAINING, AND DISPOSING OF RECORDS IN THE SYSTEM:

STORAGE:

Paper documents, magnetic tape, disk.

RETRIEVABILITY:

1. All VA blood donor manual records are indexed by name and social security number of donor, cross-indexed by blood type. 2. Automated records are indexed by name, social security number, blood type, antibodies and date of last donation.

SAFEGUARDS:

1. Access to VA working space and medical record storage areas is restricted to VA employees on a “need to know” basis. Generally, VA file areas are locked after normal duty hours and are protected from outside access by the Federal Protective Service. Employee file records and file records of public figures or otherwise sensitive medical record files are stored in separate locked files. Strict control measures are enforced to ensure that disclosure is limited to a “need to know” basis.

2. Strict control measures are enforced to ensure that access to and disclosure from all records including electronic files are limited to VA employees whose official duties warrant access to those files. The system recognizes authorized employees by a series of individually-unique passwords/codes, and the employees are limited to only that information in the file, which is needed in the performance of their official duties.

RETENTION AND DISPOSAL:

Records are maintained and disposed of in accordance with the record disposition authority approved by the Archivist of the United States, National Archives and Records Administration.

SYSTEM MANAGER(S) AND ADDRESS:

Chief Consultant, Diagnostic Services SHG (115), Department of Veterans Affairs, 810 Vermont Avenue, NW., Washington, DC 20420.

NOTIFICATION PROCEDURE:

Individuals seeking information concerning the existence and/or content of a blood donor information record pertaining to themselves must submit a written request or apply in person to the VA health care facility where the donation occurred. All inquiries must reasonably identify the portion of the blood donor information record desired and the approximate date(s) that service was provided. Additionally, inquiries should include the individual's full name, social security number, and home address at the time of medical service, if known.

RECORD ACCESS PROCEDURES:

Blood donors, patients of VA medical care facilities or duly authorized representatives seeking information regarding access to or who are contesting VA health facility records may write, call or visit the VHA facility where medical service was provided or volunteered.

CONTESTING RECORD PROCEDURES:(See Record Access Procedures above)

RECORD SOURCE CATEGORIES:

1. The blood donor. 2. Private hospitals and local blood banks. 3. Private physicians. 4. Non-VA Laboratories.

[FR Doc. 01-10273 Filed 4-24-01; 8:45 am]

BILLING CODE 8320-01-U